DEPARTMENT OF THE INTERIOR

Office of the Secretary

[24XD4523WS DS64900000 DWSN00000.000000 DP.64916; OMB Control Number 1093-0011]

Agency Information Collection Activities; Submission to the Office of Management and Budget for Review and Approval; DOI Talent Registration

AGENCY: Office of the Secretary, Interior.

ACTION: Notice of information collection; request for comment.

SUMMARY: In accordance with the Paperwork Reduction Act of 1995, we, the Office of the Secretary are proposing to renew an information collection.

DATES: Interested persons are invited to submit comments on or before August 22, 2024.

ADDRESSES: Written comments and recommendations for the proposed information collection should be sent within 30 days of publication of this notice to www.reginfo.gov/public/do/PRAMain. Find this particular information collection by selecting “Currently under Review—Open for Public Comments” or by using the search function. Please provide a copy of your comments to Jeffrey Parrillo, 1849 C Street NW, Washington, DC 20240; or by email to DOI-PRA@ios.doi.gov. Please reference OMB Control Number 1093-0011 in the subject line of your comments.

FOR FURTHER INFORMATION CONTACT: To request additional information about this ICR, contact Jeffrey Parrillo by email at DOI-PRA@ios.doi.gov, or by telephone at 202-208-7072. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 18, 2024 (89 FR 3414). Two comments were received but neither comment addressed the information collection. No action was taken.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: DOI Talent is the Department of the Interior's (DOI) shared services system to maintain and validate training records, manage class rosters and transcripts for course administrators and the student or learner, meet Federal mandatory training and statistical reporting requirements, and manage other programmatic functions related to training and educational programs.

DOI collects personal information from students in order to communicate training opportunities, manage course registration and delivery, validate training records necessary for certification or granting of college credit, process billing information for training classes, and to meet Federal training reporting requirements. Information may also be collected to comply with the Americans with Disabilities Act requirements to address facilities accommodations. Training and learning records are maintained in DOI's web-based learning management system, and bureau and office systems and locations where training programs are managed. DOI bureaus offer training programs which extend to external customers; such as universities, State governments, local governments, not-for-profit organizations, and in some cases, private citizens.

Each year approximately 3,000 external users request to register for training offered by DOI bureau's and offices through DOI Talent. Each registration will require approximately 5 minutes. DOI Talent:

• Creates an authoritative system of record for all training completions;

• Offers a more flexible approach for external training requests and documentation;

• Creates a learning environment that encourages engagement on multiple levels;

• Enhances training delivery options; and

• Creates opportunities to offer world-class instruction and to engage directly with learners through discussion forums and communities of practice.

Title of Collection: DOI Talent Registration.

OMB Control Number: 1093-0011.

Form Number: None.

Type of Review: Extension of a currently approved collection.

Respondents/Affected Public: Contractors, students, volunteers, partners, State and local employees, and Federal employees from agencies outside DOI.

Total Estimated Number of Annual Respondents: 3,800.

Total Estimated Number of Annual Responses: 3,800.

Estimated Completion Time per Response: 5 minutes per response.

Total Estimated Number of Annual Burden Hours: 317 hours.

Respondent's Obligation: Required to obtain or retain a benefit.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey M. Parrillo,
Departmental Information Collection Clearance Officer.

[FR Doc. 2024-16122 Filed 7-22-24; 8:45 am]

BILLING CODE 4334-63-P